DEPARTMENT OF LABOR

Employment and Training Administration

[TA-W-64,083]

American Axle & Manufacturing, Detroit Manufacturing Complex, Holbrook Avenue and Saint Aubin, Detroit, MI; Amended Certification Regarding Eligibility To Apply for Worker Adjustment Assistance and Alternative Trade Adjustment Assistance

In accordance with section 223 of the Trade Act of 1974 (19 U.S.C. 2273), and section 246 of the Trade Act of 1974 (26 U.S.C. 2813), as amended, the Department of Labor issued a Certification of Eligibility to Apply for Worker Adjustment Assistance and Alternative Trade Adjustment Assistance on November 24, 2008, applicable to all workers of American Axle & Manufacturing, Detroit Manufacturing Complex, Detroit, Michigan. The notice was published in the Federal Register on December 10, 2008 (73 FR 75137).

In response to a petition filed by a State agency representative on behalf of workers producing auto parts at American Axle & Manufacturing, Detroit Forge Plant, 8435 Saint Aubin, Detroit, Michigan (TA-W-64,742), the Department reviewed the certification for workers of American Axle & Manufacturing, Detroit Manufacturing Complex, Detroit, Michigan (TA-W-64,083).

The review shows that the address for the Detroit Complex is 1840 Holbrook Avenue and is comprised of multiple plants producing drive train components, including axle, steering linkage, and other metal-formed products. Two of the firm's sites, Saint Aubin and Holbrook Avenue, merged in 2007. When these locations were merged, the Holbrook address became the primary address for the multiple plants in the Detroit Complex.

The Department is amending the certification to clarify that the certification is to cover all workers of American Axle & Manufacturing, Detroit Manufacturing Complex, including those workers in forge and non-forge plants at Saint Aubin and Holbrook Avenue, Detroit, Michigan.

The amended notice applicable to TA-W-64,083 is hereby issued as follows:

“All workers of American Axle & Manufacturing, Detroit Manufacturing Complex, Saint Aubin and Holbrook Avenue, Detroit, Michigan, who became totally or partially separated from employment on or after September 16, 2007 through November 24, 2010, are eligible to apply for adjustment assistance under Section 223 of the Trade Act of 1974, and are also eligible to apply for alternative trade adjustment assistance under Section 246 of the Trade Act of 1974.”

Signed in Washington, DC, this 8th day of January 2009.
Linda G. Poole,
Certifying Officer, Division of Trade Adjustment Assistance.

[FR Doc. E9-645 Filed 1-14-09; 8:45 am]

BILLING CODE 4510-FN-P